DEPARTMENT OF STATE

[Public Notice: 8897]

Persons on Whom Sanctions Have Been Imposed Under the Iran Sanctions Act of 1996 and the Iran Freedom and Counter-Proliferation Act of 2012

AGENCY: Department of State.

ACTION: Notice.

SUMMARY: The Secretary of State has determined, pursuant to authority delegated by Presidential Memorandum of October 9, 2012 (the “ISA Delegation Memorandum”), that the following persons have engaged in sanctionable activity described in section 5(a)(6) of the Iran Sanctions Act of 1996 (Pub. L. 104-172) (50 U.S.C. 1701 note) (“ISA”), as amended, and that certain sanctions are imposed as a result: Dettin SpA.

The Secretary of State has also determined, pursuant to authority delegated by Presidential Memorandum of June 3, 2013 (the “IFCA Delegation Memorandum”), that the following persons have engaged in sanctionable activity described in section 1244 of the Iran Freedom and Counter-Proliferation Act of 2012 (Pub. L. 112-239) (“IFCA”), and that certain sanctions are imposed as a result: Goldentex FZE.

DATES: Effective Date: These sanctions actions are effective on August 28, 2014.

FOR FURTHER INFORMATION CONTACT: On general issues: Paul Pavwoski, Office of Economic Sanctions Policy and Implementation, Department of State, Telephone: (202) 647-8836.

SUPPLEMENTARY INFORMATION: Pursuant to section 5(a)(6) of ISA and the ISA Delegation Memorandum, the Secretary determined that the following sanctions, as described in section 6 of ISA, are to be imposed on Dettin SpA:

1. Procurement sanction. The United States Government shall not procure, or enter into any contract for the procurement of, and goods or services from Dettin SpA.

2. Export-Import Bank assistance for exports. The Export-Import Bank of the United States shall not give approval to the issuance of any guarantee, insurance, extension of credit, or participation in the extension of credit in connection with the export of any goods or services to Dettin SpA.

3. Banking transactions. Any transfers of credit or payments between financial institutions or by, through, or to any financial institution, to the extent that such transfers or payments are subject to the jurisdiction of the United States and involve any interest of Dettin SpA, shall be prohibited.

4. Property transactions. It shall be prohibited to:

a. Acquire, hold, withhold, use, transfer, withdraw, transport, import, or export any property that is subject to the jurisdiction of the United States and with respect to which Dettin SpA has any interest;

b. Deal in or exercise any right, power, or privilege with respect to such property; or

c. Conduct any transactions involving such property.

5. Foreign Exchange. Any transactions in foreign exchange that are subject to the jurisdiction of the United States and in which Dettin SpA has any interest, shall be prohibited.

If the Secretary determines that a person has engaged in sanctionable activity under Section 1244(d) of IFCA, the Secretary is required to impose 5 of the 12 sanctions provided for in Section 6 of ISA. Pursuant to section 1244(d) of IFCA and the IFCA Delegation Memorandum, the Secretary determined that the following sanctions as described in section 6 of ISA are to be imposed on Goldentex FZE:

1. Ban on Investment in Equity or Debt of Sanctioned Person. Investment by U.S. persons in the debt or equity of Goldentex FZE shall be prohibited.

2. Loans from United States Financial Institutions. U.S. financial institutions shall be prohibited from making loans or providing credits to Goldentex FZE totaling more than $10,000,000 in any 12-month period unless Goldentex FZE is engaged in activities to relieve human suffering and the loans or credits are provided for such activities.

3. Banking Transactions. Any transfers of credit or payments between financial institutions or by, through, or to any financial institution, to the extent that such transfers or payments are subject to the jurisdiction of the United States and involve any interest of Goldentex FZE, shall be prohibited.

4. Property Transactions. It shall be prohibited to:

a. Acquire, hold, withhold, use, transfer, withdraw, transport, import, or export any property that is subject to the jurisdiction of the United States and with respect to which Goldentex FZE has any interest;

b. Deal in or exercise any right, power, or privilege with respect to such property; or

c. Conduct any transactions involving such property.

5. Foreign Exchange Transactions. Transactions in foreign exchange that are subject to the jurisdiction of the United States in which Goldentex FZE has any interest are prohibited.

The sanctions described above with respect to Dettin SpA and Goldentex FZE shall remain in effect until otherwise directed pursuant to the provisions of ISA, IFCA, or other applicable authority. Pursuant to the authority delegated to the Secretary of State in the ISA and IFCA Delegation Memoranda, relevant agencies and instrumentalities of the United States Government shall take all appropriate measures within their authority to carry out the provisions of this notice. The Secretary of the Treasury is taking appropriate action to implement the sanctions for which authority has been delegated to the Secretary of the Treasury pursuant to the Delegation Memorandum and Executive Order 13574 of May 23, 2011.

The following constitutes a current list, as of this date, of persons on whom ISA sanctions have been imposed. The particular sanctions imposed on an individual person are identified in the relevant Federal Register Notice.

• Belarusneft (see Public Notice 7408, 76 FR 18821, April 5, 2011).

• BimehMarkazi-Central Insurance of Iran (see Public Notice 8268, 76 FR 21183, April 9, 2013).

• Cambis, Dimitris (see Public Notice 8268, 76 FR 21183, April 9, 2013).

• Dettin SpA.

• FAL Oil Company Limited (see Public Notice 7776, 77 FR 4389, Jan. 27, 2012).

• Ferland Company Limited (see Public Notice 8352, 78 FR 35351, June 12, 2013).

• Goldentex FZE.

• Impire Shipping (see Public Notice 8268, 76 FR 21183, April 9, 2013).

• Jam Petrochemical Company (see Public Notice 8352, 78 FR 35351, June 12, 2013).

• Kish Protection and Indemnity (a.k.a. Kish P&I) (see Public Notice 8268, 76 FR 21183, April 9, 2013).

• Kuo Oil (S) Pte. Ltd. (see Public Notice 7776, 77 FR 4389, Jan. 27, 2012).

• NaftiranIntertrade Company (a.k.a. NICO) (see Public Notice 7197, 75 FR 62916, Oct. 13, 2010).

• Niksima Food and Beverage JLT (see Public Notice 8352, 78 FR 35351, June 12, 2013).

• Petrochemical Commercial Company International (a.k.a. PCCI) (see Public Notice 7585, 76 FR 56866, September 14, 2011).

• Petróleos de Venezuela S.A. (a.k.a. PDVSA) (see Public Notice 7585, 76 FR 56866, September 14, 2011).

• Royal Oyster Group (see Public Notice 7585, 76 FR 56866, September 14, 2011).

• Speedy Ship (a.k.a. SPD) (see Public Notice 7585, 76 FR 56866, September 14, 2011).

• Sytrol (see Public Notice 8040, 77 FR 59034, September 25, 2012).

• Zhuhai Zhenrong Company (see Public Notice 7776, 77 FR 4389, Jan. 27, 2012).

Charles H. Rivkin,
Assistant Secretary for Economic and Business Affairs.

[FR Doc. 2014-23626 Filed 10-2-14; 8:45 am]

BILLING CODE 4710-07-P